FEDERAL RETIREMENT THRIFT INVESTMENT BOARD

Sunshine Act; Notice of Meeting

Time and Date: 9 a.m. (EDT), June 20, 2006.

Place: 4th Floor Conference Room, 1250 H Street, NW., Washington, DC.

Status: Parts will be open to the public and parts closed to the public.

Matters to be Considered:

Parts Open to the Public

1. Approval of the minutes of the May 16, 2006 Board member meeting.

2. Thrift Savings Plan activity report by the Executive Director.

3. Internal Controls.

Parts Closed to the Public

4. Internal personnel matters.

5. Procurement matters.

FOR FURTHER INFORMATION CONTACT: Thomas J. Trabucco, Director, Office of External Affairs. (202) 942-1640.

Dated: June 9, 2006.
Thomas K. Emswiler,
Secretary to the Board, Federal Retirement Thrift Investment Board.

[FR Doc. 06-5408 Filed 6-9-06; 1:06 pm]

BILLING CODE 6760-01-P